DEPARTMENT OF ENERGY

Federal Energy Regulatory Commission

[Project No. 2790-055]

Boott Hydropower, Inc.; Notice of Availability of Final Environmental Assessment

In accordance with the National Environmental Policy Act of 1969 and the Federal Energy Regulatory Commission's (Commission or FERC) regulations, 18 CFR part 380, Commission staff has reviewed the application for amendment of license for the Lowell Hydroelectric Project (FERC No. 2790-055) and has prepared an environmental assessment (EA). The project is located on the Merrimack River in Middlesex County, Massachusetts.

The EA contains the Commission staff's analysis of the potential environmental effects of the proposed replacement of the wooden flashboards with a pneumatic crest gate system of the same height and interim modifications to the existing flashboard system and concludes that authorizing the amendment, with appropriate environmental protective measures, would not constitute a major federal action that would significantly affect the quality of the human environment.

A copy of the EA is available for review at the Commission in the Public Reference Room, or it may be viewed on the Commission's Web site at http://www.ferc.gov using the e-Library link. Enter the docket number (P-2790) in the docket number field to access the document. For assistance, contact FERC Online Support at FERCOnlineSupport@ferc.gov or call toll-free at 1-(866) 208-3676 or (202) 502-8659 (for TTY).

Dated: December 19, 2011.
Kimberly D. Bose,
Secretary.

[FR Doc. 2011-32988 Filed 12-23-11; 8:45 am]

BILLING CODE 6717-01-P